DEPARTMENT OF TRANSPORTATION

Federal Railroad Administration

[Docket Number FRA-2020-0008]

Notice of Petition for Extension of Waiver of Compliance

AGENCY: Federal Railroad Administration (FRA), Department of Transportation (DOT).

ACTION: Notice.

SUMMARY: This document provides the public notice that CSX Transportation, Inc. (CSXT) petitioned FRA for an extension of relief from certain regulations concerning virtual simulation training.

DATES: FRA must receive comments on the petition by July 7, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Lance Hawks, Rail Safety Specialist, FRA Human Performance Division, telephone: 678-633-7400, email: lance.hawks@dot.gov.

SUPPLEMENTARY INFORMATION: Under part 211 of title 49 Code of Federal Regulations (CFR), this document provides the public notice that by letter received on March 19, 2025, CSXT petitioned FRA for an extension of a waiver of compliance from certain provisions of the Federal railroad safety regulations contained at 49 CFR part 232 (Brake System Safety Standards for Freight and Other Non-Passenger Trains and Equipment; End-of-Train Devices). FRA assigned the petition Docket Number FRA-2020-0008.

Specifically, CSXT seeks an extension of relief from § 232.203(b)(8), Training requirements, to use three-dimensional simulations using web-based or desktop software to satisfy the “hands-on” portion of required training, in connection with periodic refresher training for conductors and supervisory personnel responsible for performing Class I air brake tests.

In support of its request, CSXT states that the simulator-based training “measures proficiency in a completely objective manner” and “ensures that users receive identical instruction, are measured in a uniform fashion, and encounter the same conditions throughout testing.” CSXT adds that the simulation training provides the employee the opportunities to rectify “a wide variety of defects that are difficult to replicate during traditional hands-on training.” Further, as FRA's conditions stipulate that students must be able to opt out of the simulated training, since 2021, CSXT reports that no students have elected to do so.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 7, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-10206 Filed 6-4-25; 8:45 am]

BILLING CODE 4910-06-P